INTERNATIONAL TRADE COMMISSION

[Investigation No. 731-TA-709 (Fifth Review)]

Seamless Carbon and Alloy Steel Standard, Line, and Pressure Pipe From Germany

Determination

On the basis of the record ¹ developed in the subject five-year review, the United States International Trade Commission (“Commission”) determines, pursuant to the Tariff Act of 1930 (“the Act”), that revocation of the antidumping duty order on Seamless Carbon and Alloy Steel Standard, Line, and Pressure Pipe from Germany would be likely to lead to continuation or recurrence of material injury to an industry in the United States within a reasonably foreseeable time.

¹ The record is defined in § 207.2(f) of the Commission's Rules of Practice and Procedure (19 CFR 207.2(f)).

Background

The Commission instituted this review on January 3, 2023 (88 FR 110) and determined on April 10, 2023 that it would conduct an expedited review (88 FR 31006, May 15, 2023).

The Commission made this determination pursuant to section 751(c) of the Act (19 U.S.C. 1675(c)). It completed and filed its determination in this review on August 11, 2023. The views of the Commission are contained in USITC Publication 5452 (August 2023), entitled Seamless Carbon and Alloy Steel Standard, Line, and Pressure Pipe from Germany: Investigation No. 731-TA-709 (Fifth Review).

By order of the Commission.
Issued: August 11, 2023.
Lisa Barton,
Secretary to the Commission.

[FR Doc. 2023-17581 Filed 8-15-23; 8:45 am]

BILLING CODE 7020-02-P